DEPARTMENT OF COMMERCE

National Oceanic and Atmospheric Administration

[I.D. 033100C]

Endangered Species; Permits

AGENCY: National Marine Fisheries Service (NMFS), National Oceanic and Atmospheric Administration (NOAA), Commerce.

ACTION: Receipt of applications to modify scientific research permits (900, 1116, 1141, 1152, 1156, 1212).

SUMMARY: Notice is hereby given that NMFS has received applications for permit modifications from: the Northwest Fisheries Science Center, NMFS at Seattle, WA (NWFSC)(900, 1212), Douglas County Public Utility District No. 1 at East Wenatchee, WA (DCPUD)(1116), Grant County Public Utility District No. 2 at Ephrata, WA (GCPUD)(1141), Oregon Department of Fish and Wildlife at LaGrande, OR (ODFW)(1152), and the U.S. Environmental Protection Agency at Corvallis, OR (USEPA)(1156).

DATES: Comments or requests for a public hearing on any of these modification requests must be received at the appropriate address or fax number no later than 5:00pm Pacific standard time on May 8, 2000.

ADDRESSES: Written comments on any of the modification requests should be sent to Protected Resources Division, F/NWO3, 525 NE Oregon Street, Suite 500, Portland, OR 97232-2737. Comments may also be sent via fax to 503-230-5435. Comments will not be accepted if submitted via e-mail or the internet. The applications and related documents are available for review in the Protected Resources Division, F/NWO3, 525 NE Oregon Street, Suite 500, Portland, OR 97232-2737 (ph: 503-230-5400).

Documents may also be reviewed by appointment in the Office of Protected Resources, F/PR3, NMFS, 1315 East-West Highway, Silver Spring, MD 20910-3226 (301-713-1401).

FOR FURTHER INFORMATION CONTACT: For permits 900, 1152, and 1156: Leslie Schaeffer, Portland, OR (ph: 503-230-5433, fax: 503-230-5435, e-mail: Leslie.Schaeffer@noaa.gov).

For permits 1116, 1141, and 1212: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on a modification request listed in this notice should set out the specific reasons why a hearing on that request would be appropriate (see ADDRESSES). The holding of such hearing(s) is at the discretion of the Assistant Administrator for Fisheries, NOAA. All statements and opinions contained in the permit action summaries are those of the applicant and do not necessarily reflect the views of NMFS.

Species Covered in this Notice

The following species, evolutionarily significant units (ESU's), and runs are covered in this notice:

Chinook salmon (Oncorhynchus tshawytscha): threatened Snake River (SnR) spring/summer, threatened SnR fall, endangered upper Columbia River (UCR) spring, threatened Puget Sound (PS), threatened upper Willamette River (UWR).

Coho salmon (O. kisutch): threatened Southern Oregon/Northern California Coast (SONCC).

Sockeye salmon (O. nerka): endangered SnR.

Steelhead (O. mykiss): threatened SnR, endangered UCR, threatened middle Columbia River (MCR), threatened lower Columbia River (LCR).

To date, final protective regulations for threatened PS and UWR chinook salmon and SnR, MCR, and LCR steelhead under section 4(d) of the ESA have not been promulgated by NMFS. Protective regulations are currently proposed for PS and UWR chinook salmon (65 FR 169, January 3, 2000) and SnR, MCR, and LCR steelhead (64 FR 73479, December 30, 1999). This notice of receipt of applications requesting takes of these species is issued as a precaution in the event that NMFS issues final protective regulations. The initiation of a 30-day public comment period on the applications, including their proposed takes of PS and UWR chinook salmon and SnR, MCR, and LCR steelhead does not presuppose the contents of the eventual final protective regulations.

Modification Requests Received

On March 22, 2000, NMFS published a notice in the Federal Register (65 FR 15312) that an application had been received from NWFSC for a modification to permit 900. For the modification, NWFSC requested an annual take of juvenile MCR steelhead and an increase in the annual take of juvenile naturally produced UCR steelhead associated with the research. NMFS has received an amendment of NWFSC's application for a modification to permit 900. In the application amendment, NWFSC requests an increase in the annual take of juvenile SnR fall chinook salmon associated with the research. The increased take is requested because fall chinook salmon stock abundance estimates in the Snake River have recently been revised. The ESA-listed juvenile fish are proposed to be captured at John Day Dam on the Columbia River and/or obtained from the Fish Passage Center's Smolt Monitoring Program, authorized to be collected under a separate permit. The fish are proposed to be handled and released or tagged with passive integrated transponders, transported to the Dalles Dam, held for up to 24 hours, and released in front of The Dalles Dam spillway, sluiceway, turbines, or downstream from the dam. PIT-tag interrogations made at Bonneville Dam and Rice Island will be used to estimate relative survival of the release groups. An associated increase in ESA-listed juvenile chinook salmon indirect mortalities is also requested. The modification as amended is requested to be valid for the duration of the permit, which expires on December 31, 2000.

DCPUD requests a modification to permit 1116, which authorizes annual takes of juvenile naturally produced and artificially propagated UCR steelhead associated with five research studies. The purpose of Study 1 is to determine the survival and migration differences of juvenile fish as they pass downstream through Lake Pateros and Wells Dam on the Columbia River. The purpose of Study 2 is to understand the status of juvenile salmonid migration at Wells Dam by verifying hydroacoustic accuracy. For Study 2, ESA-listed juvenile fish are collected in fyke nets and sacrificed as a means to estimate the number of unguided fish at the dam. The purpose of Study 3 is to inventory the fish species in Wells Reservoir on the Columbia River. The purpose of Study 4 is to assess the survival of juvenile, artificially propagated, UCR steelhead as they pass Wells Dam. The purpose of Study 5 is to evaluate the relative benefits of passive integrated transponder (PIT) and radio tag technologies. The results from the research will be used to enhance the survival of emigrating smolts and improve the operation of the fish passage facilities at Wells Dam. For the modification, DCPUD requests a lethal take of juvenile naturally produced and artificially propagated UCR spring chinook salmon associated with the conduct of Study 2. The modification is requested to be valid for the duration of permit 1116, which expires on December 31, 2002.

GCPUD requests a modification to permit 1141, which authorizes annual takes of adult and juvenile, naturally produced and artificially propagated, UCR steelhead associated with four scientific research studies at or in the vicinity of Wanapum and Priest Rapids Dams located on the upper Columbia River in Washington. The purpose of Study 1 is to monitor outmigrating adult and juvenile steelhead condition, survival, and travel time relative to spill effectiveness at the dams. The purpose of Study 2 is to substantiate and document hydroacoustic accuracy at Wanapum Dam. The purpose of Study 3 is to evaluate the relative abundance of the fish fauna inhabiting the Priest Rapids project area. The purpose of Study 4 is to assess the survival of juvenile, artificially propagated, UCR steelhead as they migrate past Wanapum and Priest Rapids Dams. For Study 4, ESA-listed juvenile steelhead are collected with dip nets at the dam gatewells, anesthetized, tagged with radiotransmitters, allowed to recover, released downstream, and tracked electronically. The results from the research will be used to enhance the survival of emigrating smolts and improve the operation of the fish passage facilities at Wanapum and Priest Rapids Dams. For the modification, GCPUD requests an increase in the annual take of juvenile artificially propagated UCR steelhead associated with Study 4. An associated increase in ESA-listed juvenile steelhead indirect mortalities is also requested. The modification is requested to be valid for the duration of permit 1141, which expires on December 31, 2002.

ODFW requests a modification to permit 1152, which authorizes annual takes of adult and juvenile naturally produced and artificially propagated SnR spring/summer chinook salmon associated with 5 scientific research studies conducted in the Grande Ronde and Imnaha River Basins in the state of OR: (1) Spring chinook salmon spawning ground surveys, (2) a spring chinook salmon early life history study, (3) habitat and fish inventory surveys, (4) passage and irrigation screening evaluations, and (5) residual hatchery steelhead monitoring. For the modification, ODFW requests an increase in the annual take of juvenile artificially propagated SnR spring/summer chinook salmon associated with Study 2. Production levels for juvenile artificially propagated SnR spring/summer chinook salmon have increased for 2000, 2001 and 2002. ODFW also proposes to apply temporary marks to juvenile artificially propagated SnR spring/summer chinook salmon to determine trap efficiencies. An associated increase in ESA-listed juvenile fish indirect mortalities is also requested. The modification is requested to be valid for the duration of permit 1152, which expires on December 31, 2002.

USEPA requests a modification to permit 1156, which authorizes annual takes of juvenile SONCC coho salmon, juvenile SnR fall chinook salmon, and juvenile naturally produced and artificially propagated SnR spring/summer chinook salmon associated with research designed to collect data used to enforce the Clean Water Act which will increase the recovery potential of ESA-listed species in various rivers in the Pacific Northwest. For the modification, USEPA requests an annual take of juvenile naturally produced and artificially propagated UCR spring chinook salmon, juvenile naturally produced and artificially propagated PS chinook salmon, juvenile UWR chinook salmon, juvenile SnR steelhead, juvenile naturally produced and artificially propagated UCR steelhead, juvenile MCR steelhead, and juvenile LCR steelhead. ESA-listed juvenile fish are proposed to be captured using electrofishing, examined, and released. USEPA also requests an increase in the annual take of juvenile SnR fall chinook salmon and juvenile naturally produced and artificially propagated SnR spring/summer chinook salmon. The modification is requested to be valid for the duration of permit 1156, which expires on December 31, 2002.

On March 21, 2000, NMFS published a notice in the Federal Register (65 FR 15131) that NWFSC had applied for a modification to permit 1212, which authorizes annual takes of juvenile SnR sockeye salmon, juvenile naturally produced and artificially propagated SnR spring/summer chinook salmon, juvenile SnR fall chinook salmon, juvenile naturally produced and artificially propagated UCR steelhead, and juvenile naturally produced and artificially propagated UCR spring chinook salmon associated with four studies at the hydropower dams on the Snake and Columbia Rivers in the Pacific Northwest. The goal of Study 1 is to provide up-to-date survival estimates of juvenile salmonids as they migrate past McNary Dam on the Columbia River. The goal of Study 2 is to evaluate the specific trouble areas in the juvenile fish bypass system at Lower Monumental Dam on the Snake River. The goal of Study 3 is to compare the performance of juvenile salmonids tagged with Sham radiotransmitters with juvenile salmonids tagged with PITs at Lower Granite Dam on the Snake River. The goal of Study 4 is to determine tailrace residence times of radio-tagged hatchery chinook salmon under varying operational conditions at Lower Monumental Dam and to identify spill conditions that utilize the smallest volumes of water to maximize fish passage efficiency at Ice Harbor Dam on the Snake River. The research will provide information that will be used to develop corrective measures to improve juvenile fish passage at the dams. For the modification, NWFSC requested an annual take of juvenile MCR steelhead associated with the research. NWFSC has amended their application for a modification to request an increase in the annual take of juvenile SnR fall chinook salmon associated with the research. The increased take is requested because fall chinook salmon stock abundance estimates in the Snake River have recently been revised. The ESA-listed juvenile fish are proposed to be captured at McNary Dam, sampled for biological information, and released. An associated increase in ESA-listed juvenile chinook salmon indirect mortalities is also requested. The modification as amended is requested to be valid for the duration of permit 1212, which expires on December 31, 2003.

Dated: April 4, 2000.
Barbara A. Schroeder,
Acting Chief, Endangered Species Division, Office of Protected Resources, National Marine Fisheries Service.

[FR Doc. 00-8672 Filed 4-6-00; 8:45 am]

BILLING CODE 3510-22-F